DEPARTMENT OF HEALTH AND HUMAN SERVICES

National Institutes of Health

Notice of Intent To Prepare an Environmental Impact Statement and Notice of Scoping Meeting

AGENCY: National Institutes of Health, HHS.

ACTION: Notice.

SUMMARY: In accordance with the National Environmental Policy Act, the National Institutes of Health (NIH) is issuing this notice to advise the public that an environmental impact statement will be prepared for the Surgery, Radiology and Lab Medicine Building with associated Utility Vault and Patient Parking Garage project located on the National Institutes of Health, Bethesda Campus, Bethesda, Maryland.

DATES: The Scoping Meeting is planned for November 28, 2018, from 6 p.m.-9 p.m., with the formal presentation to begin at 7 p.m. Scoping comments must be postmarked no later than December 29, 2018, to ensure they are considered.

ADDRESSES: The Scoping Meeting will be held at 6001 Executive Boulevard, Rockville, MD 20852. All comments and questions on the Scoping Meeting and the Environmental Impact Statement should be directed to Valerie Nottingham, Deputy Director, Division of Environmental Protection, Office of Research Facilities, NIH, B13/2S11, 9000 Rockville Pike, Bethesda, Maryland 20892, telephone 301-496-7775; fax 301-480-0204; or email: nihnepa@mail.nih.gov.

FOR FURTHER INFORMATION CONTACT: Valerie Nottingham, Deputy Director, Division of Environmental Protection, Office of Research Facilities, NIH, B13/2S11, 9000 Rockville Pike, Bethesda, Maryland 20892, telephone 301-496-7775; fax 301-480-0204; or email: nihnepa@mail.nih.gov. For the purpose of National Institutes of Health (NIH) and its National Environmental Policy Act (NEPA) procedures, the delegation of authority to administer, interpret and oversee the applicable environmental laws, Executive Orders and regulations for the NIH including the authority to oversee and manage the NIH NEPA program for assessing environmental impacts and publish final decisions has been given to the Director, Office of Research Facilities Development and Operation, Mr. Daniel G. Wheeland.

SUPPLEMENTARY INFORMATION: The NIH's mission is to seek fundamental knowledge about the nature and behavior of living systems and the application of that knowledge to enhance health, lengthen life, and reduce illness and disability. In order to fulfill and uphold this mission the infrastructure of the NIH Bethesda Campus must be able to support the NIH's biomedical research programs.

The proposed Surgery, Radiology and Lab Medicine Building with associated Utility Vault and Patient Parking Garage project is to house General Radiology and Imaging Services (RADIS), the Department of Perioperative Medicine (DPM), the Department of Laboratory Medicine (DLM) and the relocated functions for the National Cancer Institute (NCI) in a state-of-the-art, safe, functionally efficient, flexible and cost-effective facility. During the study period, NIH expanded the building program to also include space for the National Heart, Lung & Blood Institute's (NHLBI) Cardiovascular Intervention Program (Cath Lab) and for the Interventional Radiology (IR) Program.

The proposed project consists of nine (9) levels above grade (including interstitial floors and a roof penthouse) and two (2) levels below grade. The proposed 505,200 building gross square feet (BGSF) of new construction will be linked to the west lab wing of the existing CRC (Building 10), which will include an additional 82,960 BGSF of interior renovation. The proposed new building addition foot print of 53,270 BGSF will be positioned between the CRC and Convent Drive.

The proposed project scope also includes the relocation of a portion of the existing campus utility tunnel, reconstruction of the displaced children's playground and connection to the new Pedestrian Tunnel that will be constructed with the proposed Patient Parking Garage across Convent Drive. Additionally, the project will include the installation of supporting infrastructure, such as emergency generators and medical gas storage, in the new Utility Vault and Utility Yard that will be constructed across Convent Drive as part of a separate, enabling project.

In accordance with 40 CFR 1500-1508 and Health and Human Services (HHS) environmental procedures, NIH will prepare an Environmental Impact Statement (EIS) for the proposed project. The EIS will evaluate the impacts of the alternatives should development occur as proposed. Among the items the EIS will examine are the implications of the project on community infrastructure, including, but not limited to, utilities, storm water management, traffic and transportation, and other public services.

To ensure that the public is afforded the greatest opportunity to participate in the planning and environmental review process, NIH is inviting oral and written comments on the proposed project and related environmental issues.

The NIH will be sponsoring a public Scoping Meeting to provide individuals an opportunity to share their ideas, including recommended alternatives and environmental issues the EIS should consider. All interested parties are encouraged to attend. NIH has established a 30-day public comment period for the scoping process.

Dated: October 29, 2018.
Lawrence A. Tabak,
Deputy Director, National Institutes of Health.

[FR Doc. 2018-24557 Filed 11-8-18; 8:45 am]

BILLING CODE 4140-01-P